DEPARTMENT OF EDUCATION

[Docket No.: ED-2013-ICCD-0139]

Agency Information Collection Activities; Submission to the Office of Management and Budget for Review and Approval; Comment Request; Evaluation of a District Wide Implementation of a Professional Learning Community Initiative

AGENCY: Department of Education (ED), Institute of Education Sciences/National Center for Education Statistics (IES).

ACTION: Notice.

SUMMARY: In accordance with the Paperwork Reduction Act of 1995 (44 U.S.C. chapter 3501 et seq.), ED is proposing a new information collection.

DATES: Interested persons are invited to submit comments on or before February 18, 2014.

ADDRESSES: Comments submitted in response to this notice should be submitted electronically through the Federal eRulemaking Portal at http://www.regulations.gov by selecting Docket ID number ED-2013-ICCD-0139 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Mailstop L-OM-2-2E319, Room 2E107, Washington, DC 20202.

FOR FURTHER INFORMATION CONTACT: For questions related to collection activities or burden, please call Katrina Ingalls, 703-620-3655 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of a District Wide Implementation of a Professional Learning Community Initiative.

OMB Control Number: 1850-NEW.

Type of Review: A new information collection.

Respondents/Affected Public: Individuals or households.

Total Estimated Number of Annual Responses: 403.

Total Estimated Number of Annual Burden Hours: 214.

Abstract: This study aims to address the need for systematic information about district-wide implementation of professional learning communities (PLCs) as a critical element in improving teacher quality and instruction, thereby contributing to increased student achievement. The study will survey (online) a population of teacher participants in school-based PLCs and interview principals face to face about the context and their perceptions of the initiative, pre- and post-implementation. Data collection from teachers will focus on what the PLCs do, how they operate, and to what extent they produce the outcomes expected of them as framed by six conceptual attributes of PLCs and five specific tasks. Data collection from principals will focus on contextual information about school culture and conditions such as resources that support implementation. Teachers and principals will also provide their reflections on the challenges of implementing PLCs and their suggestions for improvement. The analysis will enable comparisons among PLCs within and across schools. Study findings are expected to inform both theory and practice related to implementation of professional learning communities.

Dated: January 10, 2014.
Stephanie Valentine,
Acting Director, Information Collection Clearance Division, Privacy, Information and Records Management Services, Office of Management.

[FR Doc. 2014-00685 Filed 1-15-14; 8:45 am]

BILLING CODE 4000-01-P